DEPARTMENT OF ENERGY

Federal Energy Regulatory Commission

[Docket Nos. EL00-95-000, EL00-98-000, EL00-107-000, ER00-3461-000, ER00-3673-000]

San Diego Gas & Electric Company, Complainant, v. Sellers of Energy and Ancillary Services Into Markets Operated by the California Independent System Operator and the California Power Exchange, Respondents;Investigation of Practices of the California Independent System Operator and the California Power Exchange; Public Meetng in San Diego, California; California Power Exchange Corporation; California Independent System Operator Corporation; Order specifying time of conference and procedure for seeking participation

Issued November 1, 2000.

Before Commissioners: James J. Hoecker, Chairman; William L. Massey, Linda Breathitt, and Curt Hébert, Jr.

In this order, the Commission specifies the time and place for the November 9, 20009 public conference announced by Commission order on October 19, 2000, ¹ and the procedure for interested persons to follow in seeking participation in the conference.

¹ San Diego Gas & Electric Company, et al., 93 FERC ¶61,051 (2000).

Background

On October 19, 2000, in the consolidated dockets listed above, the Commission issued an order announcing in advance the procedures it expects to follow over the coming weeks to move forward in these proceedings. Among other things, the Commission indicated that it expected to hold a public conference on November 9, 2000 to discuss proposed remedies and stated that a separate order would be issued to specify the date and time of the conference and the manner for seeking participation in the conference.

Discussion

Time and Place of Conference

The Commission announces that it will convene a public conference to be held on Thursday, November 9, 2000, at the offices of the Federal Energy Regulatory Commission, 888 First Street, NE., Washington, DC 20426. The conference will commence at 9 a.m. and will be open to all interested persons.

Participation in Conference

Persons wishing to speak at the conference must submit a request to make a statement in the above-captioned dockets. The request should be submitted by e-mail to David Boergers at david.boergers@ferc.fed.us (include Docket No. EL00-95-000 in the subject heading of the e-mail), and should be followed up, at the same time, with a letter to the Secretary of the Commission. The request should clearly specify the name of the person desiring to speak, his or her title and affiliation, and the party or parties the speaker represents. In addition, the request should include a telephone number for notifying the speaker. The request should also include a brief summary of the issue or issues the speaker wishes to address, not to exceed one page. All e-mail requests must be submitted on or before Friday, November 3, 2000.

The number of persons desiring to speak at the conference may exceed the time available. Thus, interested persons are encouraged to join with other persons with similar interests. Based on the requests to participate, panels of speakers will be specified. The Secretary will issue a notice listing the speakers and panels for the conference.

In addition, all interested persons are invited to submit written comments on matters addressed at the conference. These comments should be submitted on or before November 22, 2000, in the above-captioned proceedings. All comments will be placed in the Commission's public files and will be available for inspection or copying in the Commission's Public Reference Room during normal business hours. Comments are also accessible via the Commission's Records Information Management System (RIMS).

The conference will be transcribed. Information about obtaining transcripts will be provided on the Commission's website, www.ferc.fed.us.

The Capitol Connection will offer this conference live over the Internet, as well as via telephone and satellite. For a reasonable fee, you can receive these meetings in your office, at home or anywhere in the world. To find out more about The Capitol Connection's internet, phone bridge or satellite coverage, contact David Reininger or Julia Morelli at 703-993-3100 or visit the website (www.capitolconnection.org).

In addition, National Narrowcast Network's Hearing-On-The-Line service will cover this conference live by telephone so that interested persons can listen at their desks, from their homes, or from any phone, without special equipment. Billing is based on time on-line. Call 202-966-2211.

Anyone interested in purchasing videotapes of the conference should call VISCOM at 703-715-7999.

The Commission Orders

The Commission hereby orders that a public conference be convened on Thursday, November 9, 2000, at 9 a.m., at the offices of the Federal Energy Regulatory Commission, 888 First Street, NE., Washington, DC 20426.

By the Commission.
David P. Boergers,
Secretary.

[FR Doc. 00-28446 Filed 11-2-00; 2:57 am]

BILLING CODE 6717-01-M